DEPARTMENT OF DEFENSE

Office of the Secretary

[Docket ID: DOD-2026-OS-0167]

Proposed Collection; Comment Request

AGENCY: Office of the Under Secretary of Defense for Personnel and Readiness (OUSD(P&R)), Department of Defense (DoD).

ACTION: Information collection notice.

SUMMARY: In compliance with the Paperwork Reduction Act of 1995, the OUSD(P&R), announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 3, 2026.

ADDRESSES: You may submit comments, identified by docket number and title, by any of the following methods:

Federal eRulemaking Portal: http://www.regulations.gov. Follow the instructions for submitting comments.

Mail: Department of Defense, Office of the Director of Administration and Management, Privacy, Civil Liberties, and Transparency Directorate, Regulatory Division, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Military Community Advocacy Directorate, Family Advocacy Program, 4800 Mark Center Drive, Suite 06G18, Alexandria, VA 22350, Angela Perryman, 703-504-8349.

SUPPLEMENTARY INFORMATION:

Title; Associated Form; and OMB Number: Department of Defense Form 2967, Domestic Abuse Victim Reporting Option Statement, OMB Control Number 0704-0666, “Domestic Abuse Victim Reporting Option Statement”.

Needs and Uses: Information on this form documents a victim of domestic abuse decision of whether to file a restricted or unrestricted report. This document is filed in accordance with the appropriate OSD and Military Department Family Advocacy Program System of Records Notice (SORN).

The information collected will be used for purposes of filing an official report. When a restricted report is filed, the victim is able to receive advocacy and counseling services without a report being made to command or law enforcement. In cases of an unrestricted report, command and law enforcement will be notified, and the victim is eligible to receive advocacy and counseling services from the Family Advocacy Program. The information collected for the form in unrestricted report cases may be used to initiate an investigation and subsequently make an incident status determination following the Incident Determination Committee procedures and processes outlined in DoD Manual 6400.01, Volume 3. If an incident meets the definitions outlined in DoDM 6400.01, Volume 3, the incident is subject to entry into the Central Registry (DoDM 6400.01, Volume 2).

Affected Public: Individuals or households.

Annual Burden Hours: 25,000 hours.

Number of Respondents: 20,000.

Responses per Respondent: 1.

Annual Responses: 20,000.

Average Burden per Response: 1.25 hours.

Frequency: On occasion.

Dated: January 28, 2026.
Stephanie J. Bost,
Alternate OSD Federal Register Liaison Officer, Department of Defense.

[FR Doc. 2026-01961 Filed 1-30-26; 8:45 am]

BILLING CODE 6001-FR-P